DEPARTMENT OF THE INTERIOR

Bureau of Reclamation

Colorado River Interim Surplus Criteria

AGENCY: Bureau of Reclamation, Department of the Interior.

ACTION: Notice of availability of a final environmental impact statement for the proposed adoption of Colorado River Interim Surplus Criteria: FES 00 52.

SUMMARY: Pursuant to Section 102(2)(C) of the National Environmental Policy Act (NEPA) of 1969, as amended, and the Council on Environmental Quality's Regulations for Implementing the Procedural Provisions of NEPA, the Bureau of Reclamation (Reclamation), has issued a Final Environmental Impact Statement (FEIS) on the proposed adoption of specific criteria under which surplus water conditions may be determined in the Lower Colorado River Basin during the next 15 years.

DATES: Reclamation will issue a Record of Decision no sooner than January 16, 2001.

ADDRESSES: See SUPPLEMENTARY INFORMATION for locations and addresses where copies of the document may be reviewed.

FOR FURTHER INFORMATION CONTACT: For additional information, contact Ms. Jayne Harkins at the above address or telephone Ms. Harkins at (702) 293-8785. The FEIS is available for viewing on the Internet at http://www.lc.usbr.gov and http://www.uc.usbr.gov. Copies of the FEIS, in the form of a printed document or on compact disk, are available upon written request to Ms. Janet Steele, Attention BCOO-4601, PO Box 61470, Boulder City, Nevada 89006-1470, Telephone: (702) 293-8785, or by fax at (702) 293-8042.

SUPPLEMENTARY INFORMATION: The Secretary of the Interior (Secretary) manages the lower Colorado River system in accordance with federal law (including the provisions of the 1964 U.S. Supreme Court decree, as supplemented, in Arizona v. California (the Decree), the Colorado River Basin Project Act of 1968 (CRBPA) and Long Range Operating Criteria (LROC) adopted pursuant to the CRBPA). Within this legal framework, the Secretary makes annual determinations regarding the availability of surplus water from Lake Mead by considering various factors, including the amount of water in storage and predictions for natural runoff. Pursuant to Article II(B)2 of the Decree, if there exists sufficient water available in a single year for pumping or release from Lake Mead to satisfy annual consumptive use in the states of California, Nevada, and Arizona in excess of 7.5 million-acre feet (maf), such water may be determined by the Secretary to be made available as “surplus” water. The Secretary is authorized to determine the conditions upon which such water may be made available.

The purpose of and need for establishing interim surplus criteria is to assist the Secretary in making annual determinations of surplus conditions, and will afford entities that have contracted for surplus water a greater degree of predictability with respect to the annual existence of surplus water available for diversion. This greater predictability would assist these entities in the management of their water resources.

The FEIS presents five possible action alternatives for implementation, plus a No Action Alternative. The action alternatives have been formulated to be consistent with applicable federal law and would serve to implement Article III (3)(B) of the LROC, described above. The five potential action alternatives are (1) “Flood Control Alternative,” which would provide surplus water only when flood control releases from Lake Mead are needed, (2) “Basin States Alternative” (Preferred Alternative), (3) “Six States Alternative” and (4) “California Alternative,” all of which specify various Lake Mead water surface elevations to be used as “triggers” to indicate when surplus conditions exist; and (5) “Shortage Protection Alternative,” which is based on maintaining an amount of water in Lake Mead necessary to provide a normal annual supply of 7.5 maf for the Lower Division, 1.5 maf for Mexico and storage necessary to provide an 80 percent protection for the critical Lake Mead water elevation of 1083 mean sea level (minimum power generation elevation).

Libraries Where the Draft EIS Is Available for Public Review

• Department of the Interior, Natural Resources Library, 1849 C Street, NW, Washington, DC 20240.

• Lower Colorado Regional Office, PO Box 61470, Boulder City, Nevada 89006-1470.

• Phoenix Area Office, Concorde Commerce Center, 2222 West Dunlap Ave., Suite 100, Phoenix, Arizona 85069-1169.

• Yuma Area Office, 7301 Calle Aqua Salada, Yuma, Arizona, 85366-7504.

• Upper Colorado Regional Office, 125 South State St., Room 6107, Salt Lake City, Utah 84138-1102.

• Boulder City Library, 813 Arizona, Boulder City, NV 89005.

• Henderson District Public Library, 280 South Water St., Henderson, NV 89015.

• Los Angeles Central Library, 630 W 5th St. Los Angeles, CA 90071.

• San Diego Central Library, 820 E St., San Diego, CA 92101.

• Salt Lake City Public Library, 209 E 500 S., Salt Lake City, UT 84111.

• Albuquerque Public Library, 501 Copper Ave. NW, Albuquerque, NM 87102.

• Denver Public Library, 10 W 14th Ave. Pkwy, Denver, CO 80204.

• Laramie County Library, 2800 Central Ave., Cheyenne, WY 82001.

• Phoenix Public Library (Burton Barr Central), 1221 N. Central Ave., AZ 85004.

• Government Reference Library, c/o Jo Reister, Tucson Pima Main Library, 101 North Stone Avenue, Tucson, AZ 85701.

• Mohave County Library, 1170 Hancock Rd., Bullhead City, AZ 86442.

• San Bernardino County Library, 1111 Bailey Ave., Needles, CA 92363.

• Lake Havasu City Library, 1787 McCulloch Blvd. North, Lake Havasu City, AZ, 86403.

• Parker Public Library, 1001 South Navajo Ave., Parker, AZ 85344.

• Palo Verde Valley Library, 125 W. Chanslor Way, Blythe, CA 92225.

• Yuma County Library, 350 S. 3rd Ave., Yuma, AZ 85364.

Dated: December 5, 2000.
Willie R. Taylor,
Director, Office of Environmental Policy and Compliance, Department of the Interior.

[FR Doc. 00-31962 Filed 12-14-00; 8:45 am]

BILLING CODE 4310-MN-P